DEPARTMENT OF TRANSPORTATION

Federal Aviation Administration

14 CFR Part 73

[Docket No. FAA-2009-1050; Airspace Docket No. 09-ASW-40]

RIN 2120-AA66

Amendment and Establishment of Restricted Areas and Other Special Use Airspace, Razorback Range Airspace Complex, AR

AGENCY: Federal Aviation Administration (FAA), DOT.

ACTION: Final rule.

SUMMARY: This action establishes two new restricted areas, amends an existing restricted area, and amends the boundaries description of the Special Use Airspace (SUA) Hog High North military operation area (MOA) that is contained in the Razorback Range Airspace Complex (RRAC) in the vicinity of Fort Chaffee, AR. Unlike restricted areas, which are designated under 14 CFR part 73, MOAs are not rulemaking airspace actions. However, since the proposed R-2402B airspace and the Hog High North MOA airspace overlap, the FAA included a description of the Hog High North MOA change in the NPRM. The Air National Guard (ANG) requested these airspace changes to permit more realistic aircrew training in modern tactics to be conducted within the RRAC and to enable more efficient use of the National Airspace System.

DATES: Effective date 0901 UTC, November 18, 2010.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Tuesday, March 30, 2010, the FAA published in the Federal Register a notice of proposed rulemaking (NPRM) to establish two restricted areas (R-2402B and R-2402C) and amend an existing restricted area (R-2402) and MOA (Hog High North) in the RRAC, AR (75 FR 15632). Interested parties were invited to participate in this rulemaking effort by submitting written comments on the proposal. In that NPRM, the airspace docket number was incorrectly published as “09-ASW-3” instead of “09-ASW-40.” On Monday, April 19, 2010, the FAA published an NPRM correction, correcting the airspace docket number to “09-ASW-40” (75 FR 20323). No comments were received to this proposed action.

Military Operations Areas (MOA)

MOAs are established to separate or segregate nonhazardous military flight activities from aircraft operating in accordance with instrument flight rules (IFR), and to advise pilots flying under VFR where these activities are conducted. IFR aircraft may be routed through an active MOA only by agreement with the using agency and only when air traffic control can provide approved separation from the MOA activity. VFR pilots are not restricted from flying in an active MOA, but are advised to exercise caution while doing so. As noted in the NPRM, MOAs are nonregulatory airspace areas that are established administratively and published in the National Flight Data Digest (NFDD) rather than through rulemaking procedures. When a nonrulemaking action is an integral part of a rulemaking action, FAA procedures allow for the nonrulemaking changes to be included in the rulemaking action. Since the Hog High North MOA is an integral part of the Razorback Airspace Complex, the MOA change is included in this rule as well as being published in the NFDD.

The Hog High North MOA boundaries description is being amended to include the statement, “excluding R-2402B, when that restricted area is active.” This amendment will prevent airspace conflict with the overlapping R-2402B being established. The amended boundaries description will also be published in the NFDD; the rest of the MOA legal description is unchanged.

The Rule

This action amends Title 14 Code of Federal Regulations (14 CFR) part 73 by establishing R-2402B and R-2402C, and amending R-2402 in the RRAC in the vicinity of Fort Chaffee, AR. At the request of the ANG, this action establishes two new restricted areas [R-2402B and R-2402C] to provide the vertical and lateral maneuvering airspace needed for military aircraft to conduct medium to high altitude standoff weapon delivery profiles.

Specifically, R-2402B will extend approximately 5 nautical miles (NM) to the east and 3 NM to the south of R-2402 (into Hog High North MOA), from 10,000 feet MSL to FL220; R-2402C will extend approximately 5 NM to the east and north of R-2402, from 13,000 feet MSL to FL220. The restricted areas will be activated when maneuvering airspace is required and cannot be activated without R-2402 being active also. When the restricted areas are not required for training requirements, that airspace will be released to Memphis ARTCC for access by nonparticipating aircraft, as appropriate.

To keep the naming convention of the R-2402 complex standardized, the “R-2402 Fort Chaffee, AR” restricted area is renamed “R-2402A Fort Chaffee, AR.” Additionally, to ensure the time of designation of all R-2402 restricted areas in the RRAC are consistent and cannot be misinterpreted, the time of designation for R-2402A is changed from “Monday through Sunday” to “daily.”

Section 73.34 of Title 14 CFR part 73 was republished in FAA Order 7400.8S, effective February 16, 2010.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in subtitle VII, part A, subpart I, section 40103. Under that section, the FAA is charged with prescribing regulations to assign the use of the airspace necessary to ensure the safety of aircraft and the efficient use of airspace. This regulation is within the scope of that authority as it establishes and amends restricted airspace in the RRAC in the vicinity of Fort Chaffee, AR.

Environmental Review

The FAA has determined that this airspace action is not expected to cause any potentially significant environmental impacts, and no extraordinary circumstances exist that warrant preparation of an environmental assessment. The FAA based this determination on the analyses conducted by the Arkansas National Guard and that it is in compliance with the National Environmental Policy Act in accordance with FAA Order 1050.1E, Environmental Impacts: Policies and Procedures.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.24 [Amended]

2. § 73.24 is amended as follows:

* * * * *

R-2402 Fort Chaffee, AR [Removed]

R-2402A Fort Chaffee, AR [New]

Boundaries. Beginning at lat. 35°18′09″ N., long. 94°03′01″ W.; to lat. 35°17′00″ N., long. 94°03′01″ W.; to lat. 35°17′00″ N., long. 94°01′01″ W.; to lat. 35°10′20″ N., long. 94°01′01″ W.; thence west along Arkansas State Highway No. 10 to lat. 35°11′33″ N., long. 94°12′01″ W.; to lat. 35°13′50″ N., long. 94°12′01″ W.; to lat. 35°18′10″ N., long. 94°12′01″ W.; to lat. 35°18′12″ N., long. 94°09′52″ W.; thence east along Arkansas State Highway No. 22 to the point of beginning.

Designated altitudes. Surface to and including 30,000 feet MSL.

Time of designation. Sunrise to sunset, daily; other times by NOTAM.

Controlling agency. FAA, Memphis ARTCC.

Using agency. Commanding General, Fort Chaffee, AR.

* * * * *

R-2402B Fort Chaffee, AR [New]

Boundaries. Beginning at lat. 35°18′26″ N., long. 93°55′41″ W.; thence clockwise along a 7-NM radius circle centered at lat. 35°15′26″ N., long. 94°03′24″ W.; to lat. 35°10′55″ N., long. 94°09′57″ W.; thence east along Arkansas State Highway 10 to lat. 35°10′20″ N., long. 94°01′01″ W.; to lat. 35°17′00″ N., long. 94°01′01″ W.; to lat. 35°17′00″ N., long. 94°03′01″ W.; to lat. 35°18′09″ N., long. 94°03′01″ W.; thence east along Arkansas State Highway 22 to the point of beginning.

Designated altitudes. 10,000 feet MSL to, but not including, FL 220.

Time of designation. Sunrise to sunset, daily; other times by NOTAM.

Controlling agency. FAA, Memphis ARTCC.

Using agency. Arkansas Air National Guard, 188th Fighter Wing, Fort Smith, AR.

* * * * *

R-2402C Fort Chaffee, AR [New]

Boundaries. Beginning at lat. 35°21′48″ N., long. 94°06′59″ W.; thence clockwise along a 7-NM radius circle centered at lat. 35°15′26″ N., long. 94°03′24″ W.; to lat. 35°18′26″ N., long. 93°55′41″ W.; thence west along Arkansas State Highway 22 to lat. 35°18′12″ N., long. 94°09′52″ W.; to the point of beginning.

Designated altitudes. 13,000 feet MSL to, but not including, FL 220.

Time of designation. Sunrise to sunset, daily; other times by NOTAM.

Controlling agency. FAA, Memphis ARTCC.

Using agency. Arkansas Air National Guard, 188th Fighter Wing, Fort Smith, AR.

Issued in Washington, DC, on July 21, 2010.
Edith V. Parish,
Manager, Airspace and Rules Group.

[FR Doc. 2010-18665 Filed 7-28-10; 8:45 am]

BILLING CODE 4910-13-P